SMALL BUSINESS ADMINISTRATION

National Advisory Council; Public Meeting

The U.S. Small Business Administration (SBA) will be hosting a meeting of the Executive Committee of the National Advisory Council (NAC). The meeting will be held on Monday, February 23, 2004 at the Sheraton Old Town Hotel located 800 Rio Grande Boulevard NW., Albuquerque, NM 87104.

Anyone wishing to attend and make an oral presentation to the Board must contact Kimberly Mace, no later than Tuesday, February 17, 2004 via e-mail or fax. Kimberly Mace, U.S. Small Business Administration, 409 3rd Street SW., Washington, DC 20416 (202) 205-8414 phone or (202) 205-6113 fax or e-mail kimberly.mace@sba.gov.

Matthew Becker,
Committee Management Officer.

[FR Doc. 04-3472 Filed 2-17-04; 8:45 am]

BILLING CODE 8025-01-P